SOCIAL SECURITY ADMINISTRATION

Agency Information Collection Activities: Comment Request

In compliance with Public Law 104-13, the Paperwork Reduction Act of 1995, SSA is providing notice of its information collection that requires submission to the Office of Management and Budget (OMB). SSA is soliciting comments on the accuracy of the agency's burden estimate; the need for the information; its practical utility; ways to enhance its quality, utility and clarity; and on ways to minimize burden on respondents, including the use of automated collection techniques or other forms of information technology.

The information collection listed below has been submitted to OMB for clearance. Written comments and recommendations on the information collection would be most useful if received within 30 days from the date of this publication. Comments should be directed to the SSA Reports Clearance Officer and the OMB Desk Officer at the addresses listed after this publication. You can obtain a copy of the OMB clearance package by calling the SSA Reports Clearance Officer on (410) 965-4145, or by writing to him.

Waiver of Right to Appear, Disability Hearing—0960-0534. The Social Security Administration uses Form SSA-773-U4 to provide claimants with an effective means of requesting waiver of their right to appear at a disability hearing. The information collected will be used as documentation that claimants understand their right to appear and the effects of the decision to waive this right. The respondents are claimants under Title II (Old-Age, Survivors and Disability Insurance) and Title XVI (Supplemental Security Income) of the Social Security Act, who wish to waive their right to appear at a disability hearing.

Number of Respondents: 194.

Frequency of Response: 1.

Average Burden Per Response: 25 minutes.

Estimated Average Burden: 81 hours.

(SSA Address) Social Security Administration, DCFAM, Attn: Frederick W. Brickenkamp, 6401 Security Blvd., 1-A-21 Operations Bldg., Baltimore, MD 21235

(OMB Address) Office of Management and Budget, OIRA, Attn: Desk Officer for SSA, New Executive Office Building, Room 10230, 725 17th St., NW., Washington, DC 20503

Dated: November 7, 2000.
Liz Davidson,
Acting Reports Clearance Officer, Social Security Administration.

[FR Doc. 00-29012 Filed 11-13-00; 8:45 am]

BILLING CODE 4190-29-P